DEPARTMENT OF THE INTERIOR

National Park Service

Final Supplemental Environmental Impact Statement for the Elwha Ecosystem Restoration Implementation Final Environmental Impact Statement Olympic National Park, Clallam County, WA; Notice of Availability

Summary: Pursuant to section 102(2)(c) of the National Environmental Policy Act of 1969 (Pub. L. 91-190, as amended) and corresponding Council of Environmental Quality implementing regulations (40 CFR part 1500-1508), the National Park Service, Department of the Interior and its cooperating agencies have finalized a supplement to the Elwha River Ecosystem Restoration Implementation final environmental impact statement (1996 Implementation EIS). Two dams built in the early 1900s block the Elwha River and substantially limit anadromous fish passage. A 1996 Implementation EIS (second of two EISs that examined how best to restore the Elwha River ecosystem and native anadromous fishery in Olympic National Park) identified dam removal as the preferred option and identified a particular set of actions to remove the dams. The release of sediment from behind the dams would result in sometimes severe impacts to water quality or the reliability of supply to downstream users during the 3-5 year dam removal impact period, which the 1996 Implementation EIS proposed mitigating through a series of specific measures (see below). However, since 1996, when the Record of Decision was signed, new research and changes unrelated to the project have necessitated re-analysis of these measures. The primary purpose of this supplemental EIS (SEIS) is to analyze the potential impacts of a new set of water quality and supply related mitigation measures.

Background: Elwha Dam was built on the Elwha River in 1911 and Glines Canyon Dam in 1925, limiting anadromous fish to the lowest 4.9 miles of river and blocking access to more than 70 miles of Elwha River mainstem and tributary habitat. The two dams and their associated reservoirs have also inundated and degraded important riverine and terrestrial habitat and severely affected fisheries habitat through increased temperatures, reduced nutrients, the absence of spawning gravels downstream and other changes. Consequently, salmon and steelhead populations in the river have been considerably reduced or eliminated, and the Elwha River ecosystem within Olympic National Park significantly and adversely altered.

In 1992, Congress enacted the Elwha River Ecosystem and Fisheries Restoration Act (Pub. L. 102-495) directing the Secretary of the Interior to fully restore the Elwha River ecosystem and native anadromous fisheries but also protecting municipal and industrial water users from the possible adverse impacts of dam removal. As noted above, the decisions associated with this process indicated removal of both dams was needed to fully restore the ecosystem. Impacts to water quality will result from the release of sediment which has accumulated behind the dams. Impacts to water supply will result from the release of fine sediment (i.e., silts and clays). These sediments can reduce yield by clogging the gravel that overlays subsurface intakes during periods of high turbidities. Increases in flooding or flood stage are also a likely result of dam removal, as sediments would replenish and raise the existing riverbed back to its pre-dam condition.

The 1996 Implementation EIS proposed and analyzed numerous mitigation and flood controll measures to protect quality and ensure supply for each of the downstream users, which included:

• The installation of an infiltration gallery to collect water filtered from the riverbed;

• Open channel treatment of this water for industrial customers;

• Closure of the state chinook rearing channel during and for years following dam removal, with chinook production transferred to another state facility;

• The installation of a second subsurface Ranney collector on the opposite shore to maintain yield during meander away from the existing collector;

• A temporary package treatment plant to filter water from the Ranney wells during dam removal;

• Expansion of the tribal hatchery and of its infiltration gallery and drilling of groundwater wells to facilitate protection and production of Elwha anadromous fish for restoration, and;

• On-site flood protection for the Dry Creek Water Association wellfield, or connection of these users to the Point Angeles water system;

• The development of a mounded septic system on the Lower Elwha Klallam Reservation; and

• Strengthening and extension of the federal levee and other smaller levees and flood control structures.

Continued study by the cooperating agencies since the 1996 Implementation EIS was finalized revealed the potential for unforeseen difficulties with some of the mitigation facilities, and identified different measures from those analyzed to resolve these difficulties. Further refining of the expected flood stage following the restoring of riverbed sediments also showed it would be higher in some areas of the river and lower in others than the original modeling predicted. In addition, changes in user needs resulting from factors unrelated to the project required a new look at some of the mitigation measures. For example, chinook salmon and bull trout have both been listed as threatened since 1997, resulting in the requirement to keep the state rearing facility open during dam removal. Also, the city of Port Angeles must now meet new standards for the treatment of its municipal supplies. In addition, an industrial customer (Rayonier) which required very high quality water for its operation has since closed. The low-lying lands of the Reservation have also been developed to such a degree since 1996 that a small mounded septic system would not be adequate.

Proposal and Alternatives: The 1996 Implementation EIS focused on dam removal and sediment management and analyzed two action alternatives; it was tiered to an earlier programmatic EIS, which examined four options and a “no action” alternative for restoring the Elwha River ecosystem. Due to this extensive consideration of the overall project and its alternatives, the SEIS only analyzed the most preferable feasible alternative for mitigating impacts to water quality and supply in some cases. This is true of the facilities that would supply treated water for industrial, hatchery and municipal use. When several options with relatively equal value in protecting users from impacts to water quality or from flooding were available, each was analyzed in the SEIS. These include maintaining water quality for Dry Creek Water Association and Elwha Heights homeowners, upgrading the tribal hatchery, treating tribal wastewater, and providing flood protection mitigation for the tribal and other residents along the river. A discussion of alternatives for industrial, hatchery and municipal use that were not selected for analysis, and rationales for not carrying them further, is provided in the SEIS (Chapt.2) and in the Elwha River Water Quality Mitigation Project Planning Report (available at http://www.nps.gov/olym/elwha/home.htm).

As documented in the Draft and Final SEIS, the proposal is deemed to be the “environmentally preferred” alternative; and it includes the following:

• The use of surface water rather than a subsurface infiltration gallery and additional Ranney well to supply the city's municipal and industrial customers, the tribal hatchery and the state chinook rearing channel. This change is intended to prevent “blinding”, which research after 1996 found was likely to occur in any kind of subsurface water collecting facility. Blinding clogs and effectively seals the surface with fine sediment for a period of time, and can substantially reduce water yield.

• Removal of the existing rock dam and intake structure that currently supplies the city's industrial customers, and replacement with a graded fish riffle and weir structure to pass fish (“Elwha Water Surface Intake” in the SEIS) and pool water. The existing intake will be replaced.

• A sediment removal facility (“Elwha Water Treatment Facility” in the SEIS) built in the location of the existing industrial treatment channel on the east bank of the river, which will receive water for treatment from the weir and intake described above. This facility will supply industrial customers, and also at times a new water treatment facility during the 3-5 year dam removal impact period.

• A new permanent water treatment facility in Port Angeles (“Port Angeles Water Treatment Facility” in the SEIS) adjacent to the city's existing landfill area, which will receive water from the sediment removal facility during and for a period of time following dam removal, and subsequently from the city's existing Ranney collector.

• Flood protection of the Dry Creek Water Association's existing wellfield.

• Connecting the Elwha Heights Water Association to the Dry Creek Water Association water delivery system to protect water quality of Elwha Heights water users.

• Relocation of the tribal hatchery to the Halberd parcel on Lower Elwha Klallam Tribal land, with water supplied from the Elwha Water Treatment Plant during the sediment release impact period.

• Keeping the state chinook rearing channel open during dam removal with water from the Elwha Water Treatment Plant during the sediment release impact period and creating a rearing pond on nearby Morse Creek as an additional rearing location for use during dam removal.

• Raising the federal levee an average of 3.3 feet (as compared to 2.5 feet in the 1996 Implementation EIS) and armoring with rock riprap where needed. The federal levee would be extended both north and south to provide additional protection from flooding following dam removal. The northward extension would be 450 feet in length; the southward extension would be a 1,650-foot route south and southeast across the Halberd property. This route includes use (raising and strengthening) of an existing levee haul road. A second levee across the river would also be raised.

• A series of small-scale flood protection measures, such as raising wellheads, dikes, roads or property to protect private citizens and existing facilities (Ranney collector, state WDFW fish-rearing facility, etc.) would be built. Most are similar or identical to those already analyzed in the 1996 Implementation EIS.

• Providing an on-reservation wastewater collection and treatment system to handle wastewater generated on the Lower Elwha Klallam Tribe's reservation.

• Sections removed from Glines Dam would be transported to a private facility to be crushed and recycled if economics indicate this would be advantageous. If not, concrete would be disposed of in open pit mines and other locations evaluated in the 1996 Implementation EIS.

• A trail, overlook and chemical toilet available to all (including disabled) visitors would be built to observe the removal of Elwha Dam and offer future interpretive opportunities.

• Property and/or conservation easements would be purchased to offset impacts of dam removal to trumpeter swans.

Each of these facilities is funded wholly or in part by the federal government to the extent that they provide mitigation from the effects of dam removal. Additional funding may be provided by homeowners groups or by other interested parties if protection or improvement beyond that resulting directly from dam removal is desired.

The No Action alternative is the same alternative as was discussed in the 1996 Implementation EIS; that is, no dam removal would take place. Because the dams would remain, water and flooding mitigation would not be needed.

Public Response to Draft SEIS: The draft SEIS was released for public review and comment in January 2005. Comments were received until March 15, 2005. The NPS received 8 letters and an Enviromental Protection Agency (EPA) evaluation of LO, or lack of objections (also noticed in the Federal Register on April 8, 2005). Commenters included the Washington Department of Ecology, Washington Department of Natural Resources, the Lower Elwha Klallam Tribe, the city of Port Angeles, Dry Creek Water Association, Inc., American Whitewater, Trout Unlimited, and Mr. Russ Busch, Tribal Attorney.

Synopsis of Comments and Changes in Final SEIS: The state agencies primarily reminded the NPS that various permits to begin dam removal would be required. Three individuals from the Tribe submitted requests for changed language reflecting updates since the draft SEIS was released. Because the Tribe and city of Port Angeles have been unable to reach a final agreement on the acceptance of tribal wastewater to the city's treatment facility, a second alternative was added. This alternative would be located on tribal land and would use a membrane bio-reactor technology and constructed wetland to treat wastewater and minimize impact of any effluent. Effluent would be allowed to infiltrate into soil underlying the wetland, or would be released into the Elwha River. This is the preferred alternative, rather than connecting to the city of Port Angeles' wastewater treatment facility. The Tribe has also evaluated two different alignments for extending the federal levee to the south that would better mitigate impacts from flooding at this end of the reservation. These have been added to the text of the final SEIS, although the preferred alternative is one that was analyzed in the draft SEIS. Additional information on fisheries and vegetation issues that have no bearing on the decision of a preferred alternative, but which add to the completeness of the final SEIS, was suggested by the third tribal individual. The city of Port Angeles' comments were wide ranging: some requested additional clarification on measures to mitigate impacts (to industrial users, for example); others mentioned permitting and final clearances that would be required from the city; some asked for additional impact information, such as to Orca whales, socioeconomics, and current traffic conditions; and others debated accuracy of statements in the draft SEIS. Although additional impact information and clarity on mitigation measures has been added where NPS felt it was incomplete or would be helpful, no changes to the preferred alternative were necessitated as a result of the city's comments. Mr. Busch asked for additional information to be added to the description and impacts of the No Action alternative, as well as to the impacts of the preferred alternative. The added information would not affect selection of the preferred alternative or alter it in any way. American Whitewater asked that the safety of the new surface diversion facility (the Elwha Surface Water Intake) be evaluated so that access for recreational uses would be maintained along the entire river, and Trout Unlimited indicated support for several of the features of the preferred alternative. The diversion would be able to pass kayaks and other craft safely, and signs to indicate any hazard areas would be used to direct recreational users.

Distribution of Final SEIS: Those who commented during the review period on the draft SEIS will receive a complete final SEIS document, as will agencies and others on the park mailing list (as noted in chapter 5 of the final SEIS). Others may request a paper copy of the final SEIS, a CD of the final SEIS and/or a CD of the full 1996 Implementation EIS which the subject document supplements. Please specify which of these documents/CDs is desired when contacting the Elwha Project Management Office. Finally, both the final SEIS and 1996 Implementation EIS will be posted on the Elwha project Web site at http://www.nps.gov/olym/elwha/home.htm.

Decision Process: Following release of the final SEIS the NPS will wait for a minimum period of at least 30 days from the date this notice is published in the Federal Register before making a final decision on which mitigation facilities it will select. Therefore if there are interested persons or organizations wishing to express any remaining concerns or comments on the content of the final SEIS, they should send them in writing to Dr. Brian Winter, Elwha Project Manager, at 826 East Front Street, Ste.A, Port Angeles, WA 98362; telephone inquires may be directed to (360) 565-1320. Faxed or electronic transmittals will be accept also (electronic comments should be sent to Brian_Winter@nps.gov, and faxes may be sent to (360) 565-1325). If substantive new information is submitted that both (1) could not have been raised during scoping or the review of the draft SEIS and (2) that has bearing on the selection of the preferred mitigation alternative, the NPS will consider such information.

Respondents are reminded that decisions or facts in the 1996 Implementation EIS are not subject to public review at this time. If any persons or organizations choose to respond, please include name and address (note that names and addresses of commenters become part of the public record). If individuals commenting request that their name or/and address be withheld from public disclosure, it will be honored to the extent allowable by law. Such requests must be stated prominently in the beginning of the comments. There also may be circumstances wherein the NPS will withhold from the record a respondent's identity, as allowable by law. As always: the NPS will make available to public inspection all submissions from organizations or businesses and from persons identifying themselves as representatives or officials of organizations and businesses; and, anonymous comments may not be considered.

As a delegated EIS, the official responsible for the final decision is the Regional Director, Pacific West Region. Subsequently the official responsible for implementing the selected mitigation alternative is the Superintendent, Olympic National Park.

Dated: June 3, 2005.
Patricia L. Neubacher,
Acting Regional Director, Pacific West Region.

[FR Doc. 05-14353 Filed 7-20-05; 8:45 am]

BILLING CODE 4312-KY-P